DEPARTMENT OF JUSTICE

Notice of Lodging of Proposed Consent Decree Under the Clean Air Act

On September 24, 2015, the Department of Justice lodged a proposed Consent Decree with the United States District Court for the Western District of Pennsylvania in the lawsuit entitled United States and Commonwealth of Pennsylvania Department of Environmental Protection v. INDSPEC Chemical Corporation, Civil Action No. 2:15-cv-01252-JFC.

The United States and Commonwealth of Pennsylvania Department of Environmental Protection filed this lawsuit under the Clean Air Act and Pennsylvania Air Pollution Control Act against INDSPEC Chemical Corporation, seeking injunctive relief and civil penalties for alleged violations of the regulations that govern leak detection and repair of equipment at its chemical manufacturing facility in Petrolia, Pennsylvania. The Complaint alleges violations of Section 112 of the Clean Air Act, 42 U.S.C. 7412, and the implementing regulations at 40 CFR part 63, and violations of Sections 4006.1 and 4006.6 of the Pennsylvania Air Pollution Control Act of January 8, 1960, Public Law 2119, as amended, 35 P.S. §§ 4006.1 and 4006.6, and the adopted and incorporated regulations at 25 Pa. Code § 127.35(b). The Consent Decree requires the defendant to perform injunctive relief by implementing an enhanced leak detection and repair program at its facility, and pay a $153,100 civil penalty.

The publication of this notice opens a period for public comment on the proposed Consent Decree. Comments should be addressed to the Assistant Attorney General, Environment and Natural Resources Division, and should refer to United States and Commonwealth of Pennsylvania Department of Environmental Protection v. INDSPEC Chemical Corporation, D.J. Ref. No. 90-5-2-1-10431. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: http://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $14.25 (25 cents per page reproduction cost) payable to the United States Treasury.

Maureen Katz,
Assistant Section Chief, Environmental Enforcement Section, Environment and Natural Resources Division.

[FR Doc. 2015-24708 Filed 9-29-15; 8:45 am]

BILLING CODE 4410-15-P